DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR,1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Tuscaloosa (FEMA Docket No: B-7716) | City of Northport (06-04-C176P) | February 14, 2007; February 21, 2007; The Northport Gazette | The Honorable Harvey Fretwell, Mayor, City of Newport, Northport City Hall, 3500 McFarland Boulevard, Northport, AL 35476 | March 1, 2007 | 010202
Alaska: Anchorage (FEMA Docket No: B-7716) | Municipality of Anchorage (06-10-B606P) | December 21, 2006; December 28, 2006; Anchorage Daily News | The Honorable Mark Begich, Mayor, Municipality of Anchorage, P.O. Box 196650, Anchorage, AK 99519-6650 | November 29, 2006 | 020005
Arizona:
Coconino (FEMA Docket No: B-7717) | City of Williams (07-09-0126P) | February 22, 2007; March 1, 2007; Arizona Daily Sun | The Honorable Ken Edes, Mayor, City of Williams, 113 South First Street, Williams, AZ 86046 | May 31, 2007 | 040027
Coconino (FEMA Docket No: B-7717) | Unincorporated areas of Coconino County (07-09-0126P) | February 22, 2007; March 1, 2007; Arizona Daily Sun | The Honorable Matt Ryan, Chairman, Coconino County, Board of Supervisors, 219 East Cherry Avenue, Flagstaff, AZ 86001 | May 31, 2007 | 040019
Maricopa (FEMA Docket No: B-7717) | Town of Buckeye (07-09-0135P) | March 22, 2007; March 29, 2007; Arizona Business Gazette | The Honorable Bobby Bryant, Mayor, Town of Buckeye, 100 North Apache Road, Suite A, Goodyear, AZ 85326 | June 28, 2007 | 040039
Maricopa (FEMA Docket No: B-7717) | Unincorporated areas of Maricopa County (07-09-0135P) | March 22, 2007; March 29, 2007; Arizona Business Gazette | The Honorable Max Wilson, Chairman, Maricopa County, Board of Supervisors, 301 West Jefferson, 10th Floor, Phoenix, AZ 85003 | June 28, 2007 | 040037
Pima (FEMA Docket No: B-7716) | City of Tucson (06-09-BA36P) | February 15, 2007; February 22, 2007; The Daily Territorial | The Honorable Bob Walkup, Mayor, City of Tucson, P.O. Box 27210, Tucson, AZ 85726 | January 26, 2007 | 040076
Pima (FEMA Docket No: B-7716) | City of Tucson (06-09-BG63P) | December 14, 2006; December 21, 2006; The Daily Territorial | The Honorable Bob Walkup, Mayor, City of Tucson, P.O. Box 27210, Tucson, AZ 85726 | November 22, 2006 | 040076
Yavapai (FEMA Docket No: B-7717) | City of Chino Valley (07-09-0415P) | March 15, 2007; March 22, 2007; Prescott Daily Courier | The Honorable Karen Fann, Mayor, Town of Chino Valley, P.O. Box 406, Chino Valley, AZ 86323 | February 27, 2007 | 040094
Arkansas:
Benton (FEMA Docket No: B-7716) | City of Bentonville (07-06-0537P) | February 9, 2007; February 15, 2007; Arkansas Democrat Gazette | The Honorable Terry L. Coberly, Mayor, City of Bentonville, 117 West Central Avenue, Bentonville, AR 72712 | May 17, 2007 | 050012
Pulaski (FEMA Docket No: B-7716) | Unincorporated areas of Pulaski County (06-06-BF55P) | February 8, 2007; February 15, 2007; Arkansas Democrat Gazette | The Honorable Floyd G. Villines, County Judge, Pulaski County Courthouse, 201 South Broadway, Little Rock, AR 72201 | May 17, 2007 | 050179
Sebastian (FEMA Docket No: B-7716) | City of Fort Smith (05-06-1080P) | February 8, 2007; February 15, 2007; Times Record | The Honorable C. Ray Baker, Jr., Mayor, City of Fort Smith, P.O. Box 1908, Fort Smith, AR 72902 | March 8, 2007 | 055013
Sebastian (FEMA Docket No: B-7716) | City of Fort Smith (05-06-1081P) | February 9, 2007; February 16, 2007; Times Record | The Honorable C. Ray Baker, Jr., Mayor, City of Fort Smith, 623 Garrison Avenue, Fort Smith, AR 72901 | March 8, 2007 | 055013
California:
Orange (FEMA Docket No: B-7716) | City of Orange (07-09-0201P) | February 22, 2007; March 1, 2007; The Orange County Register | The Honorable Carolyn V. Cavecche, Mayor, City of Orange, 300 East Chapman Avenue, Orange, CA 92866 | May 31, 2007 | 060228
Orange (FEMA Docket No: B-7474) | City of San Juan Capistrano (05-09-0793P) | September 21, 2006; September 28, 2006; The Orange County Register | The Honorable David M. Swerdlin, Mayor, City of San Juan Capistrano, City Hall, 32400 Paseo Adelanto, San Juan Capistrano, CA 92675 | August 31, 2006 | 060231
Orange (FEMA Docket No: B-7716) | City of Tustin (07-09-0201P) | February 22, 2007; March 1, 2007; The Orange County Register | The Honorable Lou Bone, Mayor, City of Tustin, 300 Centennial Way, Tustin, CA 92780, | May 31, 2007 | 060235
Orange (FEMA Docket No: B-7716) | Unincorporated areas of Orange County (07-09-0201P) | February 22, 2007; March 1, 2007; The Orange County Register | The Honorable Chris Norby, Chairman, Orange County Board of Supervisors, 333 West Santa Ana Boulevard, Santa Ana, CA 92701 | May 31, 2007 | 060212
Riverside (FEMA Docket No: B-7717) | City of Corona (06-09-BB68P) | February 15, 2007; February 22, 2007; The Press-Enterprise | The Honorable Eugene Montenez, Mayor, City of Corona, 400 South Vicentia Avenue, Corona, CA 92882 | January 30, 2007 | 060250
Riverside (FEMA Docket No: B-7717) | Unincorporated areas of Riverside County (06-09-BD43P) | January 11, 2007; January 18, 2007; The Press-Enterprise | The Honorable Bob Buster, Chairman, Riverside County, Board of Supervisors, 4080 Lemon Street, Fifth Floor, Riverside, CA 92501 | April 19, 2007 | 060245
San Diego (FEMA Docket No: B-7716) | City of Poway (06-09-BE88P) | January 11, 2007; January 18, 2007; San Diego Transcript | The Honorable Robert C. Emergy, Mayor, City of Poway, P.O. Box 789, Poway, CA 92074-0789 | April 19, 2007 | 060702
San Diego (FEMA Docket No: B-7717) | City of San Marcos (06-09-BE72P) | March 8, 2007; March 15, 2007; San Diego Transcript | The Honorable James Desmond, Mayor, City of San Marcos, One Civic Center Drive, San Marcos, CA 92069 | February 23, 2007 | 060296
Yuba (FEMA Docket No: B-7716) | Unincorporated areas of Yuba County (06-09-B119P) | January 18, 2007; January 25, 2007; The Appeal-Democrat | Mr. Robert Bendorf, Yuba County Administrator, 915 Eighth Street, Suite 115, Marysville, CA 95901 | January 29, 2007 | 060427
Colorado:
El Paso (FEMA Docket No: B-7719) | City of Colorado Springs (06-08-A647P) | December 27, 2006; January 3, 2007; El Paso County Advertiser and News | The Honorable Lionel Rivera, Mayor, City of Colorado Springs, P.O. Box 1575, Colorado Springs, CO 80901 | April 4, 2007 | 080060
El Paso (FEMA Docket No: B-7716) | City of Fountain (06-08-B110P) | January 3, 2007; January 10, 2007; El Paso County Advertiser and News | The Honorable Jeri Howells, Mayor, City of Fountain, 116 South Main Street, Fountain, CO 80817 | January 18, 2007 | 080061
El Paso (FEMA Docket No: B-7716) | Unincorporated areas of El Paso County (06-08-B110P) | January 3, 2007; January 10, 2007; El Paso County Advertiser and News | The Honorable Sallie Clark, Chair, El Paso County Board of Commissioners, 27 East Vermijo Avenue, Colorado Springs, CO 80903 | January 18, 2007 | 080059
Jefferson (FEMA Docket No: B-7716) | City of Lakewood (06-08-B627P) | January 4, 2007; January 11, 2007; The Golden Transcript | The Honorable Steve Burkholder, Mayor, City of Lakewood, Lakewood Civic Center South, 480 South Allison Parkway, Lakewood, CO 80226 | December 11, 2006 | 085075
Larimer (FEMA Docket No: B-7716) | City of Fort Collins (06-08-B336P) | January 18, 2007; January 25, 2007; Fort Collins Coloradoan | The Honorable Doug Hutchinson, Mayor, City of Fort Collins, P.O. Box 580, Fort Collins, CO 80522-0580 | April 19, 2007 | 080102
Larimer (FEMA Docket No: B-7716) | Unincorporated areas of Larimer County (06-08-B336P) | January 18, 2007; January 25, 2007; Fort Collins Coloradoan | The Honorable Glenn Gibson, Chairman, Larimer County Board of Commissioners, P.O. Box 1190, Fort Collins, CO 80522-1190 | April 19, 2007 | 080101
Florida:
Charlotte (FEMA Docket No: B-7716) | City of Punta Gorda (07-04-1137P) | February 22, 2007; March 1, 2007; Charlotte Sun | The Honorable Larry Friedman, Mayor, City of Punta Gorda, 326 West Marion Avenue, Punta Gorda, FL 33950 | January 29, 2007 | 120062
Collier (FEMA Docket No: B-7716) | City of Naples (06-04-BH21P) | February 8, 2007; February 15, 2007; Naples Daily News | The Honorable Bill Barnett, Mayor, City of Naples, 735 Eight Street South, Naples, FL 34102 | January 16, 2007 | 125130
Martin (FEMA Docket No: B-7716) | Unincorporated areas of Martin County (06-04-C015P) | February 22, 2007; March 1, 2007; The Stuart News | Mr. Duncan Ballantyne, County Administrator, Martin County, 2401 Southeast Monterey Road, Stuart, FL 34996 | May 31, 2007 | 120161
Pasco (FEMA Docket No: B-7716) | Unincorporated areas of Pasco County (05-04-0987P) | February 8, 2007; February 15, 2007; Pasco Times | The Honorable Ann Hildebrand, Chairman, Pasco County, Board of Commissioners, 7530 Little Road, New Port Richey, FL 34654 | May 17, 2007 | 120230
Polk (FEMA Docket No: B-7716) | City of Haines City (06-04-BI19P) | February 1, 2007; February 8, 2007; The Polk County Democrat | The Honorable Horace West, Mayor, City of Haines City, P.O. Box 1507, Haines City, FL 33845 | January 22, 2007 | 120266
Walton (FEMA Docket No: B-7716) | City of Freeport (06-04-BC49P) | January 30, 2007; February 7, 2007; Northwest Florida Daily News | The Honorable J. M. Marse, Mayor, City of Freeport, P.O. Box 339, Freeport, FL 32439 | December 20, 2006 | 120319
Georgia:
Columbia (FEMA Docket No: B-7716) | Unincorporated areas of Columbia County (06-04-B133P) | February 21, 2007; February 28, 2007; Columbia County News-Times | The Honorable Ron C. Cross, Chairman, Columbia County Board of Commissioners, P.O. Box 498, Evans, GA 30809 | May 30, 2007 | 130059
Fulton (FEMA Docket No: B-7716) | City of Atlanta (06-04-C646P) | February 22, 2007; March 1, 2007; Fulton County Daily Report | The Honorable Shirley Franklin, Mayor, City of Atlanta, 55 Trinity Avenue, Atlanta, GA 30303 | January 31, 2007 | 135157
Fulton (FEMA Docket No: B-7716) | City of East Point (06-04-C646P) | February 22, 2007; March 1, 2007; Fulton County Daily Report | The Honorable Joseph L. Macon, Mayor, City of East Point, 2777 East Point Street, East Point, GA 30344 | January 31, 2007 | 130087
Gwinnett (FEMA Docket No: B-7717) | City of Duluth (06-04-BO22P) | March 22, 2007; March 29, 2007; Gwinnett Daily Post | The Honorable Shirley Fanning-Lasseter, Mayor, City of Duluth, 3578 West Lawrenceville Street, Duluth, GA 30096 | February 28, 2007 | 130098
Lamar (FEMA Docket No: B-7717) | City of Barnesville (06-04-BZ31P) | January 16, 2007; January 23, 2007; The Herald-Gazette | The Honorable Dewaine T. Bell, Mayor, City of Barnesville, 109 Forsyth Street, Barnesville, GA 30204 | April 24, 2007 | 130207
Hawaii: Maui (FEMA Docket No: B-7716) | Unincorporated areas of Maui County (05-09-A226P) | February 15, 2007; February 22, 2007; Maui News | The Honorable Charmaine Tavares, Mayor, Maui County, 200 South High Street, Ninth Floor, Wailuku, Maui, HI 96793 | May 24, 2007 | 150003
Iowa:
Bremer (FEMA Docket No: B-7717) | City of Denver (06-07-B991P) | February 22, 2007; March 1, 2007; The Waverly Democrat | The Honorable Mike Isaacson, Mayor, City of Denver, 100 Washington Street, Denver, IA 50622 | May 31, 2007 | 190026
Bremer (FEMA Docket No: B-7717) | Unincorporated areas of Bremer County, (06-07-B991P) | February 22, 2007; March 1, 2007, The Waverly Democrat | The Honorable Steven Reuter Head, Bremer County Board of Supervisors, 415 East Bremer Avenue, Waverly, IA 50677 | May 31, 2007 | 190847
Illinois:
Cook (FEMA Docket No: B-7716) | Village of South Barrington, (06-05-BT49P) | March 1, 2007; March 8, 2007, Daily Herald | Mr. Frank J Munao, Jr., President, Village of South Barrington, Village Hall, 30 South Barrington Road, Barrington, IL 60010 | June 7, 2007 | 170161
Kankakee (FEMA Docket No: B-7716) | Village of Bradley (06-05-BJ19P) | January 18, 2007; January 25, 2007, Kankakee Daily Journal | The Honorable Gael K. Kent, Mayor, Village of Bradley, 147 South Michigan, Bradley, IL 60915 | December 22, 2006 | 170338
Kankakee (FEMA Docket No: B-7716) | Unincorporated areas of Kankakee County (06-05-BJ19P) | January 18, 2007; January 25, 2007, Kankakee Daily Journal | The Honorable Karl Kruse, Chairman, Kankakee County Board, 189 East Court Street, Fifth Floor, Kankakee, IL 60901 | December 22, 2006 | 170336
Lake (FEMA Docket No: B-7716) | Village of Lake Villa (06-05-BU68P) | February 22, 2007; March 1, 2007, The News Sun | The Honorable Frank M. Loffredo, Mayor, Village of Lake Villa, P.O. Box 519, Lake Villa, IL 60046 | May 31, 2007 | 170375
Kansas: Sedgwick (FEMA Docket No: B-7716) | City of Wichita (06-07-B210P) | February 15, 2007; February 22, 2007, The Wichita Eagle | The Honorable Carlos Mayans, Mayor, City of Wichita, City Hall, 455 North Main Street, Wichita, KS 67202 | May 24, 2007 | 200328
Maryland: Carroll (FEMA Docket No: B-7716) | Unincorporated areas of Carroll County (06-03-B843P) | March 1, 2007; March 8, 2007, Carroll County Times | The Honorable Julia W. Gouge, President, Carroll County, Board of Commissioners, 225 North Center Street, Room 300, Westminster, MD 21157 | March 15, 2007 | 240015
Michigan: Washtenaw (FEMA Docket No: B-7716) | City of Ann Arbor (07-05-0217P) | February 22, 2007; March 1, 2007, The Ann Arbor News | The Honorable John Hieftje, Mayor, City of Ann Arbor, 100 North 5th Avenue, Ann Arbor, MI 48104 | January 23, 2007 | 260213
Minnesota:
Anoka (FEMA Docket No: B-7716) | City of Blaine (06-05-BY83P) | February 23, 2007; March 2, 2007, Blaine/Spring Lake Park Life | The Honorable Thomas Ryan, Mayor, City of Blaine, 10801 Town Square Drive NE, Blaine, MN 55449 | January 31, 2007 | 270007
Olmsted (FEMA Docket No: B-7716) | City of Rochester (06-05-B433P) | March 8, 2007; March 15, 2007, Post-Bulletin | The Honorable Ardell F. Brede, Mayor, City of Rochester, City Hall, 201 Fourth Street, Southeast, Room 281, Rochester, MN 55904 | February 14, 2007 | 275246
Olmsted (FEMA Docket No: B-7716) | Unincorporated areas of Olmsted County (06-05-B433P) | March 8, 2007; March 15, 2007, Post-Bulletin | The Honorable Ken Brown, Commissioner, District 2, Olmsted County Board of Commissioners, 151 Fourth Street, Southeast Rochester, MN 55904 | February 14, 2007 | 270626
Polk (FEMA Docket No: B-7716) | City of Crookston (07-05-1774P) | February 15, 2007; February 22, 2007, The Crookston Daily Times | The Honorable Dave Genereaux, Mayor, City Of Crookston, 124 North Broadway, Crookston, MN 56716 | February 26, 2007 | 270364
Missouri:
Greene (FEMA Docket No: B-7717) | City of Springfield (05-07-0451P) | February 15, 2007; February 22, 2007, Springfield News-Leader | The Honorable Thomas J. Carlson, Mayor, City of Springfield, 840 Boonville Avenue, Springfield, MO 65802 | May 24, 2007 | 290149
Greene (FEMA Docket No: B-7717) | Unincorporated areas of Greene County (05-07-0451P) | February 15, 2007; February 22, 2007, Springfield News-Leader | The Honorable David Coonrod, Presiding Commissioner, Greene County Commission, 933 North Robberson, Springfield, MO 65802 | May 24, 2007 | 290782
Nevada: Clark (FEMA Docket No: B-7716) | City of North Las Vegas (06-09-BD79P) | December 21, 2006; December 28, 2006, Las Vegas Review-Journal | The Honorable Michael L. Montandon, Mayor, City of North Las Vegas, 2200 Civic Center Drive, North Las Vegas, NV 89030 | November 30, 2006 | 320007
New Jersey: Bergen (FEMA Docket No: B-7716) | Borough of Allendale (07-02-0297P) | February 23, 2007; March 2, 2007, The Record | The Honorable Vince Barra, Mayor, Borough of Allendale, 500 West Crescent Avenue, Allendale, NJ 07401 | February 26, 2007 | 340019
New York: Westchester (FEMA Docket No: B-7716) | City of New Rochelle (06-02-B832P) | January 25, 2007; February 1, 2007, The Journal News | The Honorable Noam Bramson, Mayor, City of New Rochelle, 515 North Avenue, New Rochelle, NY 10801 | July 5, 2007 | 360922
Ohio:
Butler (FEMA Docket No: B-7717) | Unincorporated areas of Butler County (06-05-B014P) | January 11, 2007; January 18, 2007, The Middletown Journal | The Honorable Gregory V. Jolivette, President, Butler County, Board of Commissioners, 315 High Street, Sixth Floor, Hamilton, OH 45011 | April 19, 2007 | 390037
Cuyahoga (FEMA Docket No: B-7717) | City of Shaker Heights (05-05-A485P) | March 1, 2007; March 8, 2007, Bedford Times | The Honorable Judith H. Rawson, Mayor, City of Shaker Heights, 3400 Lee Road, Shaker Heights, OH 44120 | June 7, 2007 | 390129
Greene (FEMA Docket No: B-7716) | Unincorporated areas of Greene County (06-05-BJ18P) | December 30, 2006; January 6, 2007, Xenia Daily Gazette | The Honorable Ralph Harper, President, Greene County Board of Commissioners, 35 Greene Street, Xenia, OH 45385 | April 9, 2007 | 390193
Montgomery (FEMA Docket No: B-7716) | City of Kettering (06-05-BJ18P) | December 30, 2006; January 6, 2007, Kettering-Oakwood Times | The Honorable Don Patterson, Mayor, City of Kettering, 3600 Shroyer Road, Kettering, OH 45429 | April 9, 2007 | 390412
Oklahoma:
Rogers (FEMA Docket No: B-7716) | Unincorporated areas of Rogers County (06-06-BD69P) | February 15, 2007; February 22, 2007; Claremore Daily Progress | The Honorable Kenneth Crutchfield, County Commissioner, Rogers County 219 South Missouri, Claremore, OK 74017 | May 24, 2007 | 405379
Tulsa (FEMA Docket No: B-7716) | City of Tulsa (06-06-BH35P) | February 8, 2007; February 15, 2007; Tulsa World | The Honorable Kathy Taylor, Mayor, City of Tulsa 200 Civic Center, 11th Floor, Tulsa, OK 74103 | May 17, 2007 | 405381
Washington (FEMA Docket No: B-7716) | Unincorporated areas of Washington County (06-06-BD69P) | February 15, 2007; February 22, 2007; Claremore Daily Progress | The Honorable Linda D. Herndon, County Commissioner, Washington County, Washington County Administration Office 400 South Johnstone, Room 201, Bartlesville, OK 74003. | May 24, 2007 | 400459
Oregon: Multnomah (FEMA Docket No: B-7716) | City of Fairview (06-10-B082P) | December 20, 2006; December 27, 2006; The Gresham Outlook | The Honorable Mike Weatherby, Mayor, City of Fairview 1300 Northeast Village Street, Fairview, OR 97024. | March 28, 2007 | 410180
Puerto Rico: Puerto Rico (FEMA Docket No: B-7716) | Commonwealth of Puerto Rico (07-02-0109P) | March 1, 2007; March 8, 2007; El San Juan Star | The Honorable Anibal Acevedo-Vila, Governor of the Commonwealth of Puerto Rico, P.O. Box 82, La Fortaleza, San Juan, PR 00901 | June 7, 2007 | 720000
South Carolina:
Charleston (FEMA Docket No: B-7716) | Town of Mount Pleasant (07-04-0382P) | February 14, 2007; February 21, 2007; Moultrie News | The Honorable Harry M. Hallman, Jr., Mayor, Town of Mount Pleasant, Post Office Box 745, Mount Pleasant, SC 29465 | January 29, 2007 | 455417
Horry (FEMA Docket No: B-7716) | Unincorporated areas of Horry County (06-04-B279P) | January 18, 2007; January 25, 2007; Horry Independent | The Honorable Elizabeth Gilland, Chairmain, Board of Commissioners, Horry County 1511 Elm Street, Conway, SC 29526 | April 26, 2007 | 450104
Lexington (FEMA Docket No: B-7716) | Unincorporated areas of Lexington County (06-04-BI42P) | February 22, 2007; March 1, 2007; The Lexington County Chronicle | The Honorable M. Todd Cullum, Chairman, Lexington County Council, 212 South Lake Drive, Lexington, SC 29072 | January 31, 2007 | 450129
South Dakota:
Lawrence (FEMA Docket No: B-7716) | City of Spearfish (06-08-B498P) | February 15, 2007; February 22, 2007; Black Hills Pioneer | The Honorable Jerry Krambech, Mayor, City of Spearfish 223 Vermont Street, Spearfish, SD 57783 | January 25, 2007 | 460046
Pennington (FEMA Docket No: B-7716) | Unincorporated areas of Pennington County (06-08-B381P) | January 18, 2007; January 25, 2007; Rapid City Journal | The Honorable Ken Davis, Chairman, Pennington County Board of Commissioners, 315 Saint Joseph Street, Suite 156, Rapid City, SD 57701 | January 22, 2007 | 460064
Tennessee: Shelby (FEMA Docket No: B-7716) | Unincorporated areas of Shelby County (04-04-A415P) | January 11, 2007; January 18, 2007; The Daily News | The Honorable A. C. Wharton, Jr., Mayor, Shelby County 160 North Main Street, Suite 850, Memphis, TN 38103 | April 19, 2007 | 470214
Texas:
Collin (FEMA Docket No: B-7716) | Town of Fairview (06-06-B959P) | January 11, 2007; January 18, 2007; McKinney Courier Gazette | The Honorable Sim Israeloff, Mayor, Town of Fairview 500 South Highway 5, Fairview, TX 75069 | April 19, 2007 | 481069
Collin (FEMA Docket No: B-7716) | Unincorporated areas of Collin County (06-06-B959P) | January 11, 2007; January 18, 2007; McKinney Courier Gazette | The Honorable Ron Harris, Collin County Judge, 210 South McDonald Street, Suite 626, McKinney, TX 75069 | April 19, 2007 | 480130
Dallas (FEMA Docket No: B-7716) | City of Irving (06-06-BD58P) | March 8, 2007; March 15, 2007; Dallas Morning News | The Honorable Herbert A. Gears, Mayor, City of Irving, 825 W. Irving Blvd., Irving, TX 75060 | June 14, 2007 | 480180
Denton (FEMA Docket No: B-7716) | City of Denton (06-06-BH76P) | March 15, 2007; March 22, 2007; Denton Record-Chronicle | The Honorable Perry McNeill, Mayor, City of Denton 215 East McKinney Street, Denton, TX 76201 | February 27, 2007 | 480194
Denton (FEMA Docket No: B-7716) | City of Denton (06-06-BJ01P) | February 15, 2007; February 22, 2007; Denton Record-Chronicle | The Honorable Perry McNeill, Mayor, City of Denton, 215 East McKinney Street, Denton, TX 76201 | January 26, 2007 | 480194
Denton (FEMA Docket No: B-7716) | Town of Shady Shores (06-06-BJ01P) | February 15, 2007; February 22, 2007; Denton Record-Chronicle | The Honorable Olive Stephens, Mayor, Town of Shady Shores, P.O. Box 362, Lake Dallas, TX 75065 | January 26, 2007 | 481135
Erath (FEMA Docket No: B-7716) | City of Stephenville (07-06-0505P) | January 25, 2007; February 1, 2007; Stephenville Empire-Tribune | The Honorable Rusty Jergins, Mayor, City of Stephenville 298 West Washington Street, Stephenville, TX 76401 | May 3, 2007 | 480220
Fort Bend, Harris and Waller (FEMA Docket No: B-7716) | City of Katy (06-06-B244P) | February 15, 2007; February 22, 2007; Fort Bend Herald | The Honorable Doyle G. Callender, Mayor, City of Katy, P.O. Box 617, Katy, TX 77492 | February 26, 2007 | 480301
Fort Bend (FEMA Docket No: B-7716) | Village of Pleak (06-06-BG61P) | February 22, 2007; March 1, 2007; Fort Bend Herald | The Honorable Margie Krenek, Mayor, Village of Pleak 6621 FM 2218 South, Richmond, TX 77469 | May 31, 2007 | 481615
Fort Bend (FEMA Docket No: B-7716) | City of Rosenberg (06-06-BG61P) | February 22, 2007; March 1, 2007; Fort Bend Herald | The Honorable Joe M. Gurecky, Mayor, City of Rosenberg, P.O. Box 32, Rosenberg, TX 77471 | May 31, 2007 | 480232
Fort Bend (FEMA Docket No: B-7716) | Unincorporated areas of Fort Bend County (06-06-B244P) | February 15, 2007; February 22, 2007; Fort Bend Herald | The Honorable Robert E. Hebert, Ph.D., Fort Bend County Judge, 301 Jackson Street, Richmond, TX 77469 | February 26, 2007 | 480228
Fort Bend (FEMA Docket No: B-7716) | Unincorporated areas of Fort Bend County (06-06-BG61P) | February 22, 2007; March 1, 2007; Fort Bend Herald | The Honorable Robert E. Hebert, Ph.D., Fort Bend County Judge, 301 Jackson Street, Richmond, TX 77469 | May 31, 2007 | 480228
Harris (FEMA Docket No: B-7716) | City of Houston (06-06-BJ02P) | February 15, 2007; February 22, 2007; Houston Chronicle | The Honorable Bill White, Mayor, City of Houston, P.O. Box 1562, Houston, TX 77251 | January 25, 2007 | 480296
Harris (FEMA Docket No: B-7716) | Unincorporated areas of Harris County (06-06-BJ02P) | February 15, 2007; February 22, 2007; Houston Chronicle | The Honorable Robert Eckels, Harris County Judge, 1001 Preston, Suite 911, Houston, TX 77002 | January 25, 2007 | 480287
Johnson (FEMA Docket No: B-7716) | City of Burleson 05-06-0645P) | January 10, 2007; January 17, 2007; Burleson Star | The Honorable Kenneth Shetter, Mayor, City of Burleson, 141 West Renfro Street, Burleson, TX 76028 | January 19, 2007 | 485459
Jones and Taylor (FEMA Docket No: B-7716) | City of Abilene (06-06-BD70P) | January 18, 2007; January 25, 2007; Abilene Reporter-News | The Honorable Norm Archibald, Mayor, City of Abilene, 717 Byrd Drive, Abilene, TX 79601 | April 19, 2007 | 485450
Kendall (FEMA Docket No: B-7716) | Unincorporated areas of Kendall County (06-06-B858P) | January 19, 2007; January 26, 2007; The Boerne Star | The Honorable Eddie John Vogt, Kendall County Judge, Kendall County Courthouse, 201 East San Antonio Street, Boerne, TX 78006 | April 27, 2007 | 480417
Lubbock (FEMA Docket No: B-7716) | City of Lubbock (06-06-BD46P) | March 8, 2007; March 15, 2007; Lubbock Avalanche-Journal | The Honorable David Miller, Mayor, City of Lubbock, P.O. Box 2000, Lubbock, TX 79457 | June 14, 2007 | 480452
Tarrant (FEMA Docket No: B-7716) | City of Fort Worth (06-06-B718P) | November 30, 2006; December 7, 2006; Fort Worth Star-Telegram | The Honorable Michael J Moncrief, Mayor, City of Forth Worth, 1000 Throckmorton Street, Fort Worth, TX 76102 | March 8, 2007 | 480596
Tarrant (FEMA Docket No: B-7716) | City of Fort Worth (06-06-BH34P) | February 8, 2007; February 15, 2007; Denton Record-Chronicle | The Honorable Michael J. Moncrief, Mayor, City of Fort Worth, 1000 Throckmorton Street, Fort Worth, TX 76102 | May 17, 2007 | 480596
Tarrant (FEMA Docket No: B-7716) | City of Fort Worth (06-06-BK38P) | March 1, 2007; March 8, 2007; Fort Worth Star-Telegram | The Honorable Mike J. Moncrief, Mayor, City of Fort Worth, 1000 Throckmorton Street, Fort Worth, TX 76102 | June 7, 2007 | 480596
Tarrant (FEMA Docket No: B-7716) | Unincorporated areas of Tarrant County (06-06-B718P) | November 30, 2006; December 7, 2006; Fort Worth Star-Telegram | The Honorable Tom Vandergriff, County Judge, Tarrant County, 100 East Weatherford Street, Suite 502A, Fort Worth, TX 76196 | March 8, 2007 | 480582
Tarrant (FEMA Docket No: B-7716) | City of Fort Worth (07-06-0103P) | November 30, 2006; December 7, 2006; Fort Worth Star-Telegram | The Honorable Michael J. Moncrief, Mayor, City of Fort Worth, 1000 Throckmorton Street, Fort Worth, TX 76102 | March 8, 2007 | 480596
Travis (FEMA Docket No: B-7716) | City of Austin (06-06-B467P) | January 18, 2007; January 25, 2007; Austin American-Statesman | The Honorable Will Wynn, Mayor, City of Austin, P.O. Box 1088, Austin, TX 78767 | December 29, 2006 | 480264
Williamson (FEMA Docket No: B-7716) | City of Cedar Park (06-06-BI70P) | February 21, 2007; February 28, 2007; Hill County News | The Honorable Bob Lemon, Mayor, City of Cedar Park, City Hall, 600 North Bell Boulevard, Cedar Park, TX 78613 | May 30, 2007 | 481282
Virginia:
Fauquier (FEMA Docket No: B-7717) | Unincorporated areas of Fauquier County (06-03-B867P) | February 28, 2007; March 7, 2007; Fauquier Times-Democrat | The Honorable Ray Graham, Chairman, Fauquier County, Board of Supervisors, Warren Green Building, 10 Hotel Street, Suite 208 Warrenton, VA 20186 | June 6, 2007 | 510055
Fauquier (FEMA Docket No: B-7716) | Unincorporated areas of Fauquier County (06-03-B895P) | February 7, 2007; February 14, 2007; Fauquier Times | The Honorable Ray Graham, Chairman, Fauquier County, Board of Supervisors, Warren Green Building, 10 Hotel Street, Suite 208, Warrenton, VA 20186 | January 18, 2007 | 510055
Washington: King (FEMA Docket No: B-7717) | City of Issaquah (06-10-B001P) | March 7, 2007; March 14, 2007; The Issaquah Press | The Honorable Ava Frisinger, Mayor, City of Issaquah, P.O. Box 1307, Issaquah, WA 98027 | June 13, 2007 | 530079

(Catalog of Federal Domestic Assistance No. 97.022, “Flood Insurance.”)

Dated: August 10, 2007.
David I. Maurstad,
Federal Insurance Administrator of the National Flood Insurance Program, Department of Homeland Security, Federal Emergency Management Agency.

[FR Doc. E7-16280 Filed 8-17-07; 8:45 am]

BILLING CODE 9110-12-P